DEPARTMENT OF THE INTERIOR

National Park Service

[NPS-WASO-NAGPRA-NPS0034104; PPWOCRADN0-PCU00RP14.R50000]

Notice of Inventory Completion: Field Museum of Natural History, Chicago, IL; Correction

AGENCY: National Park Service, Interior.

ACTION: Notice; correction.

SUMMARY: The Field Museum of Natural History has corrected an inventory of human remains, published in a Notice of Inventory Completion in the Federal Register on February 2, 2005. This notice corrects the minimum number of individuals. Lineal descendants or representatives of any Indian Tribe or Native Hawaiian organization not identified in this notice that wish to request transfer of control of these human remains should submit a written request to the Field Museum of Natural History. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Field Museum of Natural History at the address in this notice by July 27, 2022.

FOR FURTHER INFORMATION CONTACT: Helen Robbins, Repatriation Director, Field Museum of Natural History, 1400 South Lake Shore Drive, Chicago, IL 60605-2496, telephone (312) 665-7317, email hrobbins@fieldmuseum.org.

SUPPLEMENTARY INFORMATION: Notice is here given in accordance with the Native American Graves Protection and Repatriation Act (NAGPRA), 25 U.S.C. 3003, of the correction of an inventory of human remains under the control of the Field Museum of Natural History, Chicago, IL. The human remains were removed from the Crow Reservation, Bighorn County, MT.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the minimum number of individuals published in a Notice of Inventory Completion in the Federal Register (70 FR 5466, February 2, 2005). Following a re-inventory of the human remains from the site in question, the Field Museum of Natural History determined that the minimum number of individuals should be increased by one. Transfer of control of the items in this correction notice has not occurred.

Correction

In the Federal Register (70 FR 5466, February 2, 2005), column 1, paragraph 4, sentence 1 is corrected by substituting the following sentence:

During 1901-1902, human remains representing a minimum of three individuals were obtained from Crow Agency, on the Crow Reservation, Bighorn County, MT, by Stephen C. Simms for the Field Museum of Natural History.

In the Federal Register (70 FR 5466, February 2, 2005), column 1, paragraph 6, sentence 1 is corrected by substituting the following sentence:

Officials of the Field Museum of Natural History have determined that, pursuant to 25 U.S.C. 3001 (9-10), the human remains described above represent the physical remains of three individuals of Native American ancestry.

Additional Requestors and Disposition

Lineal descendants or representatives of any Indian Tribe or Native Hawaiian organization not identified in this notice that wish to request transfer of control of these human remains should submit a written request with information in support of the request to Helen Robbins, Repatriation Director, Field Museum of Natural History, 1400 S Lake Shore Drive, Chicago, IL 60605-2496, telephone (312) 665-7317, email hrobbins@fieldmuseum.org, by July 27, 2022. After that date, if no additional requestors have come forward, transfer of control of the human remains to the Crow Tribe of Montana may proceed.

The Field Museum of Natural History is responsible for notifying the Crow Tribe of Montana that this notice has been published.

Dated: June 10, 2022.
Melanie O'Brien,
Manager, National NAGPRA Program.

[FR Doc. 2022-13621 Filed 6-24-22; 8:45 am]

BILLING CODE 4312-52-P